FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011426-060.

Title: West Coast of South America Discussion Agreement.

Parties: CMA CGM S.A.; Hamburg-Süd; Hapag-Lloyd AG; Mediterranean Shipping Company, SA; Seaboard Marine Ltd.; and Trinity Shipping Line, S.A.

Filing Party: Wayne R. Rohde, Esq.; Cozen O'Conner; 1200 Nineteenth Street NW.; Washington, DC 20036.

Synopsis: The amendment deletes King Ocean Services Limited, Inc. as a party to the agreement and reflects the resignation of Trinity Shipping Line, S.A., effective June 8, 2016.

Agreement No.: 012233-004.

Title: UASC/CMA CGM/PIL Vessel Sharing Agreement—Asia and US West Coast Services.

Parties: United Arab Shipping Company (S.A.G.); CMA CGM S.A.; and Pacific International Lines (Pte) Ltd.

Filing Party: Joshua P. Stein; Cozen O'Connor; 1200 Nineteenth Street NW., Washington DC, 20036.

Synopsis: The amendment changes the name of the agreement to the UASC/CMA CGM/PIL Vessel Sharing Agreement—Asia and US West Coast Services and deletes COSCON, CSCL and YMUK as parties to the agreement. It also deletes the structural slot exchange component of the agreement.

Agreement No.: 012336-001.

Title: ZIM/OOCL Space Charter Agreement.

Parties: Zim Integrated Shipping Services Co., Ltd. and Orient Overseas Container Line Limited.

Filing Party: Mark E. Newcomb; ZIM American Integrated Shipping Services, Co. LLC; 5801 Lake Wright Dr.; Norfolk, VA 23508.

Synopsis: The amendment authorizes Zim to charter space to OOCL in the trade between the Atlantic Coast of the U.S. and Malaysia.

Agreement No.: 012410.

Title: WWL/Hyundai Glovis Space Charter Agreement.

Parties: Wallenius Wilhelmsen Logistics AS and Hyundai Glovis Co. Ltd.

Filing Party: Wayne R. Rohde, Esq.; Cozen O'Connor LLP; 1200 Nineteenth St. NW.; Washington, DC 200036.

Synopsis: The Agreement authorizes the parties to charter space to/from one another on an “as needed/as available” basis from Korea on the one hand, to ports on the Atlantic Coast of the U.S. and Puerto Rico on the other hand.

By Order of the Federal Maritime Commission.
Dated: May 13, 2016.
Karen V. Gregory,
Secretary.

[FR Doc. 2016-11748 Filed 5-17-16; 8:45 am]

BILLING CODE 6731-AA-P